DEPARTMENT OF HOUSING AND URBAN DEVELOPMENT

[Docket No. FR-5665-N-01]

Performance Review Board

AGENCY: Office of the Deputy Secretary, HUD.

ACTION: Notice of appointments.

SUMMARY: The Department of Housing and Urban Development announces the appointments of, Maurice A. Jones, Michael A. Anderson, Mary K. Kinney, Jean Lin Pao, and Susan J. Shuback as members of the Departmental Performance Review Board. The address is: Department of Housing and Urban Development, Washington, DC 20410-0050.

FOR FURTHER INFORMATION CONTACT: Persons desiring any further information about the Performance Review Board and its members may contact Juliette Middleton, Director, Office of Executive Resources, Department of Housing and Urban Development, Washington, DC 20410. Telephone (202) 708-1381. (This is not a toll-free number)

Dated: September 18, 2012.
Maurice A. Jones,
Deputy Secretary.

[FR Doc. 2012-23569 Filed 9-24-12; 8:45 am]

BILLING CODE 4210-67-P